ENVIRONMENTAL PROTECTION AGENCY

40 CFR Part 52

[EPA-R04-OAR-2005-0004-201109; FRL-9285-9]

Approval and Promulgation of Implementation Plans; South Carolina: Prevention of Significant Deterioration and Nonattainment New Source Review

AGENCY: Environmental Protection Agency (EPA).

ACTION: Proposed rule.

SUMMARY: EPA is proposing to convert a conditional approval of a revision to the South Carolina State Implementation Plan (SIP) to a full approval. South Carolina, through the South Carolina Department of Health and Environment Control (SC DHEC), Bureau of Air Quality, submitted a SIP revision on April 14, 2009, in response to the conditional approval of its New Source Review (NSR) permitting program. South Carolina's April 14, 2009, SIP revision consists of adopting requirements of the Nonattainment New Source Review (NNSR) construction permit program under the Clean Air Act (CAA or Act). This program affects major stationary sources in South Carolina that are subject to or potentially subject to the NNSR construction permit program. As required by the conditional approval, South Carolina's April 14, 2009, SIP revision includes requirements for calculating emissions reductions that will be used for offsets and ensures those reductions are surplus to other Federal requirements. EPA is proposing approval of the April 14, 2009, SIP revision because the Agency has determined that South Carolina addresses the conditions identified in the conditional approval, and is in accordance with the CAA.

DATES: Comments must be received on or before April 25, 2011.

ADDRESSES: Submit your comments, identified by Docket ID No. EPA-R04-OAR-2005-0004, by one of the following methods:

1. http://www.regulations.gov: Follow the on-line instructions for submitting comments.

2. E-mail: benjamin.lynorae@epa.gov.

3. Fax: (404) 562-9019.

4. Mail: EPA-R04-OAR-2005-0004, Air Planning Branch, Air, Pesticides and Toxics Management Division, U.S. Environmental Protection Agency, Region 4, 61 Forsyth Street, SW., Atlanta, Georgia 30303-8960.

5. Hand Delivery or Courier: Ms. Lynorae Benjamin, Chief, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Instructions: Direct your comments to Docket ID No. EPA-R04-OAR-2005-0004. EPA's policy is that all comments received will be included in the public docket without change and may be made available online at http://www.regulations.gov, including any personal information provided, unless the comment includes information claimed to be Confidential Business Information (CBI) or other information whose disclosure is restricted by statute. Do not submit through http://www.regulations.gov or e-mail, information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding Federal holidays.

FOR FURTHER INFORMATION CONTACT: For information regarding the South Carolina SIP, contact Ms. Twunjala Bradley, Regulatory Development Section, Air Planning Branch, Air, Pesticides and Toxics Management Division, U.S. Environmental Protection Agency, Region 4, 61 Forsyth Street, SW., Atlanta, Georgia 30303-8960. Ms. Bradley's telephone number is (404) 562-9352; e-mail address: bradley.twunjala@epa.gov. For information regarding NSR, contact Ms. Yolanda Adams, Air Permits Section, at the same address above. Ms. Adams' telephone number is (404) 562-9241; e-mail address: adams.yolanda@epa.gov.

SUPPLEMENTARY INFORMATION:

I. What action is EPA proposing?

II. Why is EPA proposing this action?

III. Proposed Action

IV. Statutory and Executive Order Reviews

I. What action is EPA proposing?

On April 14, 2009, the State of South Carolina, through SC DHEC, submitted a revision to the South Carolina SIP, which consists of changes to the South Carolina Air Pollution Control Regulations and Standards (hereafter referred to as “South Carolina Regulations”). Specifically, the proposed SIP revision includes changes to South Carolina Regulation 61-62.5, Standard No. 7.1 entitled “Nonattainment New Source Review.” SC DHEC submitted this SIP revision in response to EPA's June 2, 2008 (73 FR 31368), rule which conditionally approved South Carolina's NNSR program.

South Carolina's April 14, 2009, SIP revision also includes the removal of provisions which existed in South Carolina regulations that relate to requirements that were vacated from the Federal program by the United States Court of Appeals for the District of Columbia Circuit (DC Circuit Court) on June 24, 2005. The provisions vacated from the Federal rules pertain to pollution control projects (PCPs) and clean units (CUs). Since these provisions were not approved into South Carolina's SIP, no action is required by EPA.¹ As a result of the removal of the CU and PCP provisions, the SIP revision also includes minor administrative reference changes at Regulation 61-62.5, Standard No. 7—Prevention of Significant Deterioration (PSD) and Standard No. 7.1 Nonattainment New Source Review which are now being proposed for inclusion in the SIP.

¹ On June 2, 2008 (73 FR 31368), EPA disapproved provisions in South Carolina's PSD and NNSR programs relating to PCP and CUs. Therefore, these provisions were not approved into South Carolina's SIP.

In addition to changes to address the conditional approval of South Carolina's NNSR program and the aforementioned administrative changes, South Carolina's April 14, 2009, SIP revision also includes provisions in Regulation 61-62.5, Standards No. 7 and 7.1 to exclude facilities that produce ethanol through a natural fermentation process (hereafter referred to as the “Ethanol Rule”) from the definition of “chemical process plants” in the major NSR permitting program. See 72 FR 24060 (May 1, 2007). At this time, EPA is not proposing to take action on South Carolina's changes to its NSR program to incorporate the provisions of the Ethanol Rule.

II. Why is EPA proposing this action?

South Carolina Regulation 61-62.5, Standard No. 7.1 was submitted to EPA by SC DHEC on July 1, 2005, for inclusion in the South Carolina SIP. This regulation relates to the South Carolina's NNSR permit program. Revisions to Regulation 61-62.5, Standard No. 7.1 became State-effective on June 24, 2005. EPA proposed to conditionally approve South Carolina's NNSR rules on September 12, 2007 (72 FR 52031). EPA did not receive any comments on the proposal. EPA finalized its conditional approval of Regulation 61-62.5, Standards No. 7.1 into the South Carolina SIP on June 2, 2008 (73 FR 31368). As part of the conditional approval, South Carolina had twelve months from the June 2, 2008, final conditional approval to submit changes to its NNSR program as described herein to be consistent with EPA Federal regulations.

On April 14, 2009, SC DHEC submitted a revision to the SIP, incorporating the corrections required by EPA in the conditional approval. Specifically, South Carolina revised Regulation 61-62.5, Standard No. 7.1 to include a methodology for calculating emission reductions to be used as offsets that include a baseline for determining credit for emissions offsets that meet the requirements set out in 40 CFR 51.165(a)(3)(i) and Appendix S, section IV.C. This particular issue was highlighted as a basis for the conditional approval in the June 2, 2008 Federal Register. See 73 FR 31369-31370. The emission offsets provisions also specify that the reductions must be surplus and cannot be used for offsets if they are otherwise required by the South Carolina SIP or other Federal standards, such as New Source Performance Standards and National Emissions Standards for Hazardous Air Pollutants, including the Maximum Achievable Control Technology standards. EPA has determined that South Carolina's April 14, 2009, SIP revision satisfies the conditions listed in EPA's June 2, 2008, conditional approval, and today is proposing to convert its prior conditional approval to full approval. See 73 FR 31368.

III. Proposed Action

EPA is proposing to convert a conditional approval of a July 1, 2005, revision to the South Carolina SIP regarding requirements for the State's NNSR construction permit program to a full approval. South Carolina's April 14, 2009, SIP revision consists of changes to South Carolina Regulation 61-62.5, Standard No. 7.1 entitled “Nonattainment New Source Review.” SC DHEC submitted the April 14, 2009, SIP revision in response to EPA's June 2, 2008 (73 FR 31368), rule, which conditionally approved South Carolina's NNSR program as provided in the State's July 1, 2005, SIP revision. SC DHEC has satisfied the conditions listed in EPA's conditional approval. Therefore, EPA is proposing to convert its conditional approval of South Carolina's July 1, 2005, SIP revision to a full approval. The April 14, 2009, SIP revision satisfies the conditions of EPA's conditional approval of South Carolina's July 1, 2005 SIP revision, and is are consistent with Federal regulations and in accordance with the CAA. In addition, EPA is proposing to approve minor administrative reference changes at South Carolina Regulation 61-62.5 Standards No. 7 and 7.1 as a result of the removal of CU and PCP provisions.

IV. Statutory and Executive Order Reviews

Under the CAA, the Administrator is required to approve a SIP submission that complies with the provisions of the Act and applicable Federal regulations. 42 U.S.C. 7410(k); 40 CFR 52.02(a). Thus, in reviewing SIP submissions, EPA's role is to approve State choices, provided that they meet the criteria of the CAA. Accordingly, this proposed action merely approves State law as meeting Federal requirements and does not impose additional requirements beyond those imposed by State law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule does not have Tribal implications as specified by Executive Order 13175 (65 FR 67249, November 9, 2000), because the SIP is not approved to apply in Indian country located in the State, and EPA notes that it will not impose substantial direct costs on Tribal governments or preempt Tribal law.

List of Subjects in 40 CFR Part 52

Environmental protection, Air pollution control, Carbon monoxide, Intergovernmental relations, and Reporting and recordkeeping requirements.

Authority: 42 U.S.C. 7401 et seq.

Dated: March 16, 2011.
A. Stanley Meiburg,
Acting Regional Administrator, Region 4.

[FR Doc. 2011-6975 Filed 3-23-11; 8:45 am]

BILLING CODE 6560-50-P